DEPARTMENT OF JUSTICE

Notice of Lodging of Consent Decree Pursuant to the Comprehensive Environmental Response, Compensation and Liability Act

In accordance with 28 CFR 50.7 and section 122 of the Comprehensive Environmental Response, Compensation and Liability Act (“CERCLA”), 42 U.S.C. 9622, the Department of Justice gives notice that a proposed consent decree, in United States v. State of Wisconsin, et al., Civil No. 01-C-0394-S (W.D. Wisc.), was lodged with the United States District Court for the Western District of Wisconsin on July 10, 2001, pertaining to the Refuse Hideaway Landfill Superfund Site located in the Town of Middleton, Dane County, Wisconsin (the “Site”). The proposed consent decree would resolve the United States' civil claims under sections 106 and 107 of CERCLA, 42 U.S.C. 9606 and 9607, against the Settling Defendants: The State of Wisconsin, 3 transporters and 157 generators, including 8 municipalities. The proposed consent decree also resolves claims against 4 Settling Federal Agencies.

Under the proposed consent decree, the State of Wisconsin, as Settling Performing Party, is obligated to finance and perform the completion of the remedial action at the Site and conduct long term operation and maintenance (“O&M”) at the Site, as specified in the U.S. Environmental Protection Agency's (“FPA's”) Record of Decision (“ROD”), issued June 28, 1995, as modified under an Explanation of Significant Differences (“ESD”), issued September 30, 1998, at an estimated net present value of $1.3 million. The remaining 160 Settling Defendants would be obligated to pay approximately $3.5 million to the United States and State of Wisconsin. The United States would receive $793,895 in reimbursement of past response costs and future response costs at the Site, and the State would receive the balance of the payments to be used for financing the State's future response work at the Site and for reimbursement of the State's past response costs incurred in connection with the Site. In addition, the United States, on behalf of the 4 Settling Federal Agencies, would pay $32,845 to the Superfund in reimbursement of past response costs and premium payments for future response costs incurred and to be incurred at the Site.

The Department of Justice will receive, for a period of thirty (30) days from the date of this publication, comments relating to the proposed consent decree. Comments should be addressed to the Assistant Attorney General, Environment and Natural Resources Division, United States Department of Justice, Washington, DC 20530, and should refer to United States v. State of Wisconsin, et al., Civil No. 01-C-0394-S (W.D. Wisc.), and DOJ Reference No. 90-11-2-1184.

The proposed consent decree maybe examined at: (1) The Office of the United States Attorney for the Western District of Wisconsin, 660 West Washington Avenue, Suite 200, Madison, Wisconsin 53703, (608-264-5158); and (2) the United States Environmental Protection Agency (Region 5), 77 West Jackson Boulevard, Chicago, Illinois 60604-3590 (contact: Jacqueline Kline (312-886-7167)). A copy of the proposed consent decree may be obtained by mail from the Consent Decree Library, U.S. Department of Justice, PO Box 7611, Washington, DC 20044-7611. In requesting a copy, please refer to the referenced case and DOJ Reference Number and enclose a check in the amount of $18.00 for the consent decree only (72 pages, at 25 cents per page reproduction costs), or $110.50 for the consent decree and all appendices (442 pages), made payable to the Consent Decree Library.

William D. Brighton,
Assistant Chief, Environmental Enforcement Section, Environment and Natural Resources Division.

[FR Doc. 01-18080 Filed 7-18-01; 8:45 am]

BILLING CODE 4410-15-M